DEPARTMENT OF COMMERCE

Submission for OMB Review; Comment Request

The Department of Commerce will submit to the Office of Management and Budget (OMB) for clearance the following proposal for collection of information under the emergency provisions of the Paperwork Reduction Act (44 U.S.C. Chapter 35).

Agency: National Institute of Standards and Technology (NIST).

Title: Joplin, MO Tornado Public Warnings and Response Interviews.

OMB Control Number: None.

Form Number(s): None.

Type of Request: Emergency submission (new information collection).

Burden Hours: 200.

Number of Respondents: 400.

Average Hours per Response: 30 minutes.

Needs and Uses: Under the National Construction Safety Team Act, the NIST Director established a team to perform a technical investigative study of the Joplin, MO tornado event of May 22, 2011. One of the study's five objectives focuses on determining the pattern, location, and cause of fatalities and injuries, and associated emergency communications and public response. To achieve this objective, the team will interview individuals who have knowledge and/or experiences related to the tornado. The team is interested in understanding the ways in which people received information about the tornado (if at all), the personal protective actions they took in response to the tornado (if any), any information that they have about injuries and fatalities resulting from the tornado, and any pre-5/22/11 experiences with and/or planning for tornados inside and outside of the Joplin, MO area.

Potential interviewees are those who experienced some aspect of the tornado. Most of these individuals will include survivors of the tornado, located within the damage path of the tornado and survived. Other interviewees can include those who were originally located within the damage path prior to tornado touch-down; have knowledge about injuries and fatalities from the disaster; or willing to discuss pre-5/22/11 experiences with tornados in the Joplin, MO area. The team will interview people as they volunteer to participate in interviews and will cease when key areas of interest are saturated. The team will attempt, as much as possible, to collect information from interviewees varying by age group, geographical location within the damage path and Joplin, MO, and overall experience with the disaster, among other factors.

Affected Public: Individuals and households.

Frequency: One time.

Respondent's Obligation: Voluntary.

OMB Desk Officer:. Jasmeet Seehra, (202) 395-3123.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to, OMB Desk Officer, Jasmeet Seehra, FAX Number (202) 395-5167, or Jasmeet_K._Seehra@omb.eop.gov).

Dated: August 12, 2011.
Gwellnar Banks,
Management Analyst, Office of the Chief Information Officer.

[FR Doc. 2011-20979 Filed 8-16-11; 8:45 am]

BILLING CODE 3510-13-P